DEPARTMENT OF THE INTERIOR

Bureau of Ocean Energy Management

[Docket No. BOEM-2013-0007; MMAA104000]

Environmental Assessment for Potential Lease Issuance and Marine Hydrokinetic Technology Testing Offshore Florida

AGENCY: Bureau of Ocean Energy Management (BOEM), Interior.

ACTION: Notice of the Availability of a Revised Environmental Assessment and a Finding of No Significant Impact.

SUMMARY: BOEM has prepared a revised environmental assessment (EA) considering the environmental impacts and socioeconomic effects of issuing a lease in Official Protraction Diagram NG 17-06, Blocks 7003, 7053, and 7054, offshore Florida. The proposed lease would authorize technology testing activities, including the installation, operation, relocation, and decommissioning of technology testing facilities within the lease area, such as deployment of technology demonstration devices, single anchor moorings, and mooring telemetry buoys. As a result of the analysis in the revised EA, BOEM issued a Finding of No Significant Impact (FONSI). The FONSI concluded that the environmental impacts associated with the preferred alternative would not significantly impact the environment; therefore, the preparation of an environmental impact statement (EIS) is not required.

The purpose of this notice is to inform the public of the availability of the EA and FONSI, which can be accessed online at: http://www.boem.gov/Renewable-Energy-Program/State-Activities/Florida.aspx.

Authority: This notice of availability (NOA) of an EA and FONSI is published pursuant to 43 CFR 46.305.

FOR FURTHER INFORMATION CONTACT: Michelle Morin, BOEM Office of Renewable Energy Programs, 381 Elden Street, HM 1328, Herndon, Virginia 20170-4817, (703) 787-1340 or michelle.morin@boem.gov.

SUPPLEMENTARY INFORMATION: On May 24, 2011, BOEM published a Notice of Intent (NOI) to prepare an EA that requested public comments on alternatives for consideration in the EA, as well as identification of important environmental issues associated with data collection and technology testing activities (76 FR 30184). BOEM considered these public comments in drafting the alternatives and assessing the reasonably foreseeable environmental impacts associated with each. Comments received in response to the NOI can be viewed at: http://www.regulations.gov by searching for Docket ID BOEM-2011-0012.

On April 25, 2012, BOEM released an EA for a 30-day public review (77 FR 24734). During the comment period, BOEM held a public information meeting in Fort Lauderdale, Florida on May 9, 2012, to provide stakeholders an additional opportunity to offer comments on the EA. After the comment period closed, Florida Atlantic University Southeast National Marine Renewable Energy Center proposed to also conduct ocean current turbine tow tests concurrent with survey activities. To address the comments received and consider additional activities associated with the proposed action, BOEM revised the EA. All comments received in response to the April 25, 2012, NOA can be viewed at: http://www.regulations.gov by searching for Docket ID BOEM-2012-0011.

Dated: August 6, 2013.
Tommy P. Beaudreau,
Director, Bureau of Ocean Energy Management.

[FR Doc. 2013-19593 Filed 8-12-13; 8:45 am]

BILLING CODE 4310-MR-P